FEDERAL COMMUNICATIONS COMMISSION

[CC Docket No. 96-128; DA 01-1967]

Petitions for Declaratory Ruling, Reconsideration and/or Clarification of the Payphone Compensation Second Order on Reconsideration

AGENCY: Federal Communications Commission.

ACTION: Notice.

SUMMARY: In this document, the Common Carrier Bureau seeks comment on petitions for declaratory ruling, reconsideration and/or clarification filed by Bulletins, WorldCom, Inc., AT&T and Global Crossing Telecommunications, Inc.

DATES: Comments due no later than October 9, 2001. Reply comments due no later than October 22, 2001.

ADDRESSES: Federal Communications Commission, The Portals II, 445 12th Street, SW., Room 6-A207, Washington, DC 20554.

FOR FURTHER INFORMATION CONTACT: Tania Cho of the Common Carrier Bureau, Network Services Division: by phone (202) 418-2320; by fax (202) 418-2345; by TTY (202) 418-0484; or, by email at tcho@fcc.gov.

SUPPLEMENTARY INFORMATION: On April 5, 2001, the Federal Communications Commission (Commission) released the Second Order on Reconsideration, which modified the rules governing the entity responsible for compensating a payphone service provider (PSP) for coinless calls placed from a payphone that are routed to the network of a facilities-based interexchange carrier (IXC), and then to one or more IXC resellers before being transferred to a local exchange carrier (LEC) for call completion. The modified rules provide that the first facilities-based IXC to which a LEC routes a coinless payphone call must (1) compensate the PSP for the completed call; (2) track or arrange for tracking of all compensable calls; and (3) send to the PSP call completion information to enable the PSP to verify the accuracy of compensation it receives for coinless, compensable calls and/or to bill the underlying facilities-based carrier. The first facilities-based IXC may seek reimbursement from the switchless or switch-based reseller ultimately responsible for the compensation.

Several parties have filed petitions for declaratory ruling, clarification and/or reconsideration. Bulletins seeks clarification of whether the modified rules relieve certain LECs from their obligation to compensate PSPs for coinless calls made from a payphone, and whether IXCs are provided a basis for exempting calls originated from payphones served by Competitive Local Exchange Carriers (CLECs). WorldCom, Inc. (WorldCom) seeks a declaratory ruling that a completed dial-around payphone call is defined as one that is completed on the underlying carrier's network, or one that is handed off to switch-based reseller customers that do not have prior agreements with all PSPs to pay dial around compensation. WorldCom also seeks clarification that carriers are only required to report compensable toll-free and access number calls. AT&T seeks clarification of whether its practice of compensating PSPs at the Commission-established rate for all calls that are sent to a switch-based reseller's switching platform, regardless of whether such calls are completed, is consistent with the Commission's requirements. AT&T also seeks clarification and/or reconsideration of the IXCs reporting obligations to PSPs. Global Crossing Telecommunications, Inc. (Global Crossing) requests that the Commission establish a specific timing surrogate for determining whether a particular call is completed, and therefore compensable. Global Crossing also seeks reconsideration of the reporting requirements.

Copies of the petitions will be available during regular business hours at the FCC Reference Center, Portals II, 445 12th Street, SW., Room CY-A257, Washington, DC 20554, (202) 418-0270. Copies of the petitions are also available on the Commission's Electronic Comment Filing System (ECFS) at http://www.fcc.gov/e-file/ecfs.html (insert CC Docket No. 96-128 into the Proceeding block). Copies of the petitions may also be purchased from the Commission's copy contractor, International Transcription Service, Inc. (ITS), 1231 20th Street, NW., Washington, DC 20036, telephone (202) 857-3800, fax (202) 857-3805, TTY (202) 293-8810.

Federal Communications Commission.
Dorothy Attwood,
Chief, Common Carrier Bureau.

[FR Doc. 01-22434 Filed 9-6-01; 8:45 am]

BILLING CODE 6712-01-P